FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Matthew B. Miller, P.E., Chief, Hazards Study Branch, Mitigation Directorate, Federal Emergency Management Agency, 500 C Street SW., Washington, DC 20472, (202) 646-3461, or (e-mail) matt.miller@fema.gov.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with Section 110 of the Flood Disaster Protection Act of 1973, 42 U.S.C. 4104, and 44 CFR part 67.

The Agency has developed criteria for floodplain management in floodprone areas in accordance with 44 CFR part 60.

Interested lessees and owners of real property are encouraged to review the proof Flood Insurance Study and Flood Insurance Rate Map available at the address cited below for each community.

The base flood elevations and modified base flood elevations are made final in the communities listed below. Elevations at selected locations in each community are shown.

National Environmental Policy Act. This rule is categorically excluded from the requirements of 44 CFR part 10, Environmental Consideration. No environmental impact assessment has been prepared.

Regulatory Flexibility Act. The Associate Director, Mitigation Directorate, certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD)
ILLINOIS
Phoenix (Village), Cook County (FEMA Docket No. D-7502)
Little Calumet River:
At intersection of 9th Avenue and 153rd Street | *597
Approximately 200 feet southeast of intersection of 153rd Street and 7th Avenue | *597
Maps available for inspection at the Phoenix Village Hall, 15240 Vincenes Road, Phoenix, Illinois.
———
Robbins (Village), Cook County (FEMA Docket No. D-7502)
Midlothian Creek:
Approximately 1,350 feet downstream of 137th Street | *596
Approximately 0.61 mile upstream of Kedzie Avenue | *604
Maps available for inspection at the Robbins Village Hall, 3327 West 137th Street, Robbins, Illinois.
———
Winnebago County (Unincorporated Areas) (FEMA Docket No. 7307)
Manning Creek:
At confluence with Kishwaukee River | *729
Approximately 0.52 mile upstream of Lyford Road | *857
Unnamed Tributary to South Kent Creek:
Just downstream of U.S. Route 20 | *765
Approximately 1,600 feet upstream of Frontage Road | *782
Kishwaukee River:
Just upstream of Interstate 90 | *729
Approximately 1,400 feet upstream of Interstate 90 | *729
Maps available for inspection at the Winnebago County Highway Department, 424 North Springfield Road, Rockford, Illinois.
MASSACHUSETTS
Holbrook (Town), Norfolk County (FEMA Docket No. 7299)
Cochato River:
Randolph/Holbrook corporate limits | *119
Approximately 50 feet downstream of North Shore Road | *127
Maps available for inspection at the Holbrook Town Hall, 50 North Franklin Street, Holbrook, Massachusetts.
MINNESOTA
Houston County (Unincorporated Areas) (FEMA Docket No. D-7500)
Root River:
Approximately 2.8 miles downstream of State Route 76 | *676
Approximately 2.2 miles upstream of State Route 76 | *690
Maps available for inspection at the Houston County Courthouse, Zoning Office, 304 South Marshall, Caledonia, Minnesota.
NEW HAMPSHIRE
Holderness (Town), Grafton County (FEMA Docket No. 7307)
Pemigewasset River:
At downstream corporate limits | *483
At upstream corporate limits | *489
Maps available for inspection at the Holderness Town Office, Route 3, Holderness, New Hampshire.
———
New Boston (Town), Hillsborough County (FEMA Docket No. 7303)
South Branch Piscataquog River:
Approximately 10 feet upstream of Merrimack Farmers Exchange Dam | *418
Approximately 0.51 mile upstream of Butterfield Mill Road | *532
Maps available for inspection at the New Boston Town Hall, 7 Meetinghouse Hill Road, New Boston, New Hampshire.
———
Plymouth (Town), Grafton County (FEMA Docket No. 7307)
Pemigewasset River:
Approximately 1.2 miles downstream of the confluence with Glove Hollow Brook | *481
Approximately 1.3 miles upstream of Interstate 93 | *489
Maps available for inspection at the Plymouth Town Hall, 6 Post Office Square, Plymouth, New Hampshire.
NEW JERSEY
Alexandria (Township), Hunterdon County (FEMA Docket No. D-7500)
Delaware River:
At downstream corporate limits | *127
At a point approximately 1,000 feet downstream of the upstream corporate limits | *135
Harihokake Creek:
At confluence with Delaware River | *131
At a point approximately 0.64 mile upstream of confluence with Delaware River | 132
Maps available for inspection at the Alexandria Township Hall, 21 Hog Hollow Road, Pittstown, New Jersey.
———
East Hanover (Township), Morris County (FEMA Docket No. 7303)
Passaic River:
Approximately 1,125 feet downstream of Eagle Rock Avenue | *174
Approximately 275 feet upstream of Mount Pleasant Avenue | *176
Maps available for inspection at the East Hanover Township Hall, Engineering Department, 411 Ridgedale Avenue, East Hanover, New Jersey.
———
Ewing (Township), Mercer County (FEMA Docket No. D-7500)
Delaware River:
At downstream corporate limits | *40
Approximately 1,300 feet downstream of confluence of Jacobs Creek | *47
Maps available for inspection at the Clerk's Office, 2 Jake Garzio Drive, Ewing, New Jersey.
———
Florham Park (Borough), Morris County (FEMA Docket No. 7303)
Passaic River:
At Columbia Turnpike | *176
Approximately 0.39 mile downstream of Passaic Avenue | *176
Fish's Brook:
At the confluence with Passaic River | *176
Approximately 50 feet upstream of Brooklake Road | *176
Maps available for inspection at the Borough of Florham Park Engineering Office, 111 Ridgedale Avenue, Florham Park, New Jersey.
———
Hanover (Township), Morris County (FEMA Docket No. 7307)
Whippany River:
At Troy Road | *178
At confluence of Black Brook | *182
Black Brook:
At confluence with Whippany River | *182
Approximately 0.85 mile upstream of the confluence of Pinch Brook | *182
Maps available for inspection at the Township of Hanover Engineering Department, 1000 Route 10, Whippany, New Jersey.
———
Harmony (Township), Warren County (FEMA Docket No. D-7500)
Delaware River:
At downstream corporate limits | *201
A point approximately 260 feet upstream of the upstream corporate limits | *232
Buckhorn Creek:
At confluence with Delaware River | *225
A point approximately 1,800 feet upstream of confluence with Delaware River | *225
Maps available for inspection at the Harmony Township Hall, 3003 Belvidere Road, Phillipsburg, New Jersey.
———
Holland (Township), Hunterdon County (FEMA Docket No. D-7500)
Delaware River:
A point approximately 1,800 feet upstream of downstream corporate limit | *141
Approximately 1.2 miles downstream of upstream corporate limit | *155
Tributary No. 1 to Delaware River:
At confluence with Delaware River | *147
Approximately 1,500 feet upstream of confluence with Delaware River | *147
Maps available for inspection at the Holland Township Municipal Building, 61 Church Road, Milford, New Jersey.
———
Hopewell (Township), Mercer County (FEMA Docket No. D-7504)
Delaware River:
Approximately 2,560 feet downstream of Washington Crossing Pennington Road | *50
At upstream corporate limits | *65
Maps available for inspection at the Hopewell Township Hall, 201 Washington Crossing, Pennington Road, Titusville, New Jersey.
———
Livingston (Township), Essex County (FEMA Docket No. 7303)
Passaic River:
Approximately 2.1 miles downstream of State Route 10 | *175
Approximately 1.7 miles upstream of the confluence of Passaic River Tributary | *176
Passaic River Tributary:
At the confluence with Passaic River Tributary | *176
Approximately 0.25 mile downstream of South Orange Avenue | *176
Maps available for inspection at the Livingston Town Hall, Engineering Department, 357 South Livingston Avenue, Livingston, New Jersey.
———
Stafford (Township), Ocean County (FEMA Docket No. 7279)
Manahawkin Mill Creek:
Approximately 1.2 miles downstream of State Route 72 | *9
Approximately 1,000 feet downstream of State Route 72 | *19
Manahawkin Lake:
Entire shoreline within community | *28
Holiday Lake:
Entire shoreline within community | *57
Barnegat Bay:
At corporate limits | *9
Approximately 1,200 feet northwest of confluence of Crooked Creek and Corrigans Straight Ditch | *10
Manahawkin Bay:
At Turtle Cove, Big Cove, and North Pond | *12
At the intersection of East Bay Avenue and Hilliard Boulevard | *8
Maps available for inspection at the Township Hall, 260 East Bay Avenue, Manahawkin, New Jersey.
———
Stockton (Borough), Hunterdon County (FEMA Docket No. D-7500)
Brookville Creek:
At the confluence with Delaware and Raritan Canal | *82
Approximately 305 feet upstream of State Route 29 | *82
Delaware River:
At downstream corporate limits | *82
Approximately 0.54 mile upstream of Bridge Street | *87
Wickecheoke Creek:
At the confluence with Delaware and Raritan Canal | *87
Approximately 860 feet upstream of State Route 29 | *87
Maps available for inspection at the Stockton Borough Hall, 2 Main Street, Stockton, New Jersey.
NEW YORK
Holland Patent (Village), Oneida County (FEMA Docket No. D-7500)
Diversion Channel:
Approximately 100 feet upstream of the confluence with Willow Creek | *653
Approximately 590 feet upstream of Steuben Street | *671
Ninemile Creek:
Approximately 830 feet downstream of the confluence of Thompson's Creek | *573
Approximately 420 feet upstream of the confluence of Thompson's Creek | *580
Thompson's Creek:
Approximately 350 feet upstream of the confluence with Ninemile Creek | *585
Approximately 980 feet upstream of East Main Street | *669
Maps available for inspection at the Holland Patent Village Hall, 9531 Center Street, Holland Patent, New York.
———
Oswego (Town), Oswego County (FEMA Docket No. D-7500)
Lake Ontario:
Entire shoreline within community | *250
Maps available for inspection at the Oswego Town Hall, 2320 County Route 7, Oswego, New York.
———
Putnam Valley (Town), Putnam County (FEMA Docket No. D-7504)
Peekskill Hollow Creek:
At approximately 0.5 mile downstream of the most upstream crossing of Peekskill Hollow Road | *248
At approximately 2.2 miles upstream of Taconic State Parkway | *457
Barger Brook:
At approximately 1.04 mile downstream of Finnerty Road | *492
At approximately 0.54 mile upstream of Finnerty Road | *649
Oscawana Brook:
At confluence with Peekskill Hollow Creek | *113
At approximately 1,400 feet upstream of Oscawana Lake Road | *511
Oscawana Brook (West Branch):
At approximately 720 feet downstream of Oscawana Lake Road | *449
At approximately 840 feet upstream of Oscawana Lake Road | *511
Shallow Flooding Area:
West side of Canopus Creek approximately 1,400 feet southwest of Sunken Mine and Clear Lake Roads intersection | #3
Canopus Creek:
At approximately 60 feet upstream of dam | *320
At approximately 1.66 mile (8,750 feet) upstream of Bell Hollow Road | *508
Maps available for inspection at the Putnam Valley Town Hall, 265 Oscawana Lake Road, Putnam Valley, New York.
———
Schuyler (Town), Herkimer County (FEMA Docket No. D-7504)
Mohawk River:
At the downstream corporate limits | *395
Approximately 1.34 miles upstream of Newport Road | *407
Maps available for inspection at the Schuyler Town Clerk's Office, 2090 State Route 5, Utica, New York.
———
Scriba (Town), Oswego County (FEMA Docket No. D-7500)
Lake Ontario:
Entire shoreline within community | *250
Wine Creek:
At downstream corporate limits | *329
Approximately 600 feet upstream of downstream corporate limits | *334
Maps available for inspection at the Scriba Town Clerk's Office, 42 Creamery Road, Oswego, New York.
NORTH CAROLINA
Warren County (Unincorporated Areas) (FEMA Docket No. D-7504)
Lake Gaston:
Along the entire shoreline of Lake Gaston downstream of State Route 1344 | *204
Maps available for inspection at the Warren County Planning and Zoning Office, 720 West Ridgeway Street, Warrenton, North Carolina.
OHIO
Fort Recovery (Mercer County) (FEMA Docket No. D-7502)
Buck Creek:
Approximately 925 feet downstream of West Butler Street | *918
At upstream most crossing of Sharpsburg Road | *948
Maps available for inspection at the Fort Recovery Village Offices, 201 South Main Street, Fort Recovery, Ohio.
———
Mercer County (Unincorporated Areas) (FEMA Docket No. D-7502)
Buck Creek:
Approximately 300 feet downstream of Sharpsburg Road | *937
Approximately 375 feet upstream of Sharpsburg Road | *952
Maps available for inspection at the Mercer County Engineer's Office, 321 Riley Street, Celina, Ohio.
PENNSYLVANIA
Buffalo (Township), Butler County (FEMA Docket No. D-7500)
Buffalo Creek:
Approximately 300 feet downstream of CONRAIL | *768
Approximately 720 feet upstream of CONRAIL | *768
Maps available for inspection at the Buffalo Township Hall, 109 Bear Creek Road, Sarver, Pennsylvania.
———
East Rockhill (Township), Bucks County (FEMA Docket No. D-7500)
East Branch Perkiomen Creek:
A point approximately 50 feet upstream of East Callowhill Road | *315
Approximately 620 feet upstream of East Callowhill Road | *317
Maps available for inspection at the East Rockhill Township Office, 1622 Ridge Road, Perkasie, Pennsylvania.
———
Heidelberg (Township), Berks County (FEMA Docket No. D-7500)
Tulpehocken Creek:
From a point approximately 60 feet downstream of Water Street | *336
At a point approximately 400 feet downstream of U.S. Route 422 | *357
Maps available for inspection at the Heidelberg Municipal Building, 11 Tulpehocken Forge, Robesonia, Pennsylvania.
———
Marion (Township), Berks County (FEMA Docket No. D-7500)
Tulpehocken Creek:
Approximately 60 feet downstream of Water Street | *336
A point approximately 125 feet downstream of Main Street | *374
Maps available for inspection at the Marion Township Building, 20 South Water Street, Stouchsburg, Pennsylvania.
———
Muhlenberg (Township), Berks County (FEMA Docket No. D-7500)
Bernhart Creek:
At the intersection of Raymond Street and Park Avenue | *290
Approximately 260 feet west of the intersection of Jefferson Street and Park Avenue | *290
Maps available for inspection at the Muhlenberg Township Hall, 555 Raymond Street, Reading, Pennsylvania.
———
Perkasie (Borough), Bucks County (FEMA Docket No. 7307)
East Branch Perkiomen Creek:
Approximately 3,550 feet upstream of North Main Street | *307
Approximately 620 feet upstream of East Callowhill Road | *317
Maps available for inspection at the Perkasie Borough Office, 311 South 9th Street, Perkasie, Pennsylvania.
———
Sellersville (Borough), Bucks County (FEMA Docket No. 7307)
East Branch Perkiomen Creek:
Approximately 150 feet downstream of CONRAIL bridge | *303
Approximately 3,550 feet upstream of North Main Street | *307
Maps available for inspection at the Sellersville Borough Hall, 140 East Church Street, Sellersville, Pennsylvania.
———
West Rockhill (Township), Bucks County (FEMA Docket No. 7307)
East Branch Perkiomen Creek:
At the upstream side of County Line Road | *276
Approximately 550 feet downstream of CONRAIL bridge | *301
Maps available for inspection at the West Rockhill Township Hall, 1028 Ridge Road, Sellersville, Pennsylvania.
———
Womelsdorf (Borough), Berks County (FEMA Docket No. D-7500)
Tulpehocken Creek:
Approximately 400 feet downstream of U.S. Route 422 | *357
At a point approximately 1,550 feet upstream of U.S. Route 422 | *360
Maps available for inspection at the Womelsdorf Borough Hall, 101 West High Street, Womelsdorf, Pennsylvania.
RHODE ISLAND
Coventry (Town), Kent County (FEMA Docket No. 7307)
Tributary A1:
Approximately 400 feet upstream of the confluence with South Branch Pawtuxet River | *239
Approximately 55 feet upstream of Flat River Road | *246
Tributary A2:
A point approximately 37 feet upstream of Bike Path | *241
A point approximately 85 feet upstream of Bike Path | *241
Maps available for inspection at the Coventry Town Hall, 1670 Flat River Road, Coventry, Rhode Island.
TENNESSEE
Henry County (Unincorporated Areas) (FEMA Docket No. D-7500)
Tennessee River (Kentucky Lake):
Entire shoreline within Henry County | *370
Smallwood Branch:
At the confluence with Bailey Fork Creek | *389
Approximately 0.38 mile upstream of India Road | *405
Bailey Fork Creek:
Approximately 45 feet upstream of County Home Road | *389
Approximately 1,375 feet upstream of County Home Road | *390
Maps available for inspection at the Henry County Courthouse Annex Building, 213 West Washington Street, Paris, Tennessee.
———
Paris (City), Henry County (FEMA Docket No. D-7500)
Smallwood Branch:
At the confluence with Bailey Fork Creek | *389
Approximately 1,250 feet upstream of U.S. Highway 79 | *398
Bailey Fork Creek:
Approximately 45 feet upstream of County Home Road | *389
Approximately 1,375 feet upstream of County Home Road | *390
Maps available for inspection at the Paris City Hall, 100 North Caldwell Avenue, Paris, Tennessee.
VERMONT
Montgomery (Town), Franklin County (FEMA Docket No. D-7504)
Trout River:
Approximately 0.57 mile downstream of the downstream corporate limits | *431
Approximately 1,280 feet downstream of Comstock Bridge Road | *464
Maps available for inspection at the Montgomery Town Clerk's Office, 98 Main Street, Montgomery Center, Vermont.
VIRGINIA
Hillsboro (Town), Loudoun County (FEMA Docket No. D-7502)
North Fork Catoctin Creek:
At the upstream side of State Route 718 | *504
Approximately 300 feet upstream of State Route 719 | *533
Maps available for inspection at the Hillsboro Town Hall, 36991 Charlestown Pike, Hillsboro, Virginia.
———
Loudoun County (Unincorporated Areas) (FEMA Docket No. D-7502)
Broad Run:
At the confluence with the Potomac River | *210
Approximately 800 feet downstream of the confluence of South Fork Broad Run | *268
Beaverdam Run:
At the confluence with Broad Run | *219
Approximately 0.5 mile upstream of State Route 625 | *300
Cabin Branch No. 1:
At confluence with Broad Run | *266
Approximately 1,260 feet upstream of confluence with Broad Run | *266
Cabin Branch No. 2:
At confluence with Broad Run | *221
Approximately 1,550 feet upstream of Blossom Drive | *258
Horsepen Run:
At the confluence with Broad Run | *234
Approximately 1,575 feet upstream of Dulles Toll Road | *280
Indian Creek:
From confluence with Horsepen Run | *260
Approximately 2.2 miles upstream of the confluence with Horsepen Run | *282
Lenah Run:
At confluence with North Fork Broad Run | *280
Approximately 75 feet upstream of U.S. Route 50 | *323
North Fork Broad Run:
At confluence with South Fork Broad Run | *268
Approximately 0.58 mile upstream of confluence of Tributary to North Fork Broad Run | *306
Russell Branch:
At the confluence with Beaverdam Run | *219
Approximately 1.2 miles upstream of the confluence with Beaverdam Run | *225
South Fork Broad Run:
Approximately 1,175 feet upstream from the confluence with Broad Run | *268
Approximately 0.88 mile upstream of State Route 616 | *335
Stallion Branch:
At the confluence with Horsepen Run | *260
Approximately 2.3 miles upstream of the confluence with Horsepen Run | *270
Tributary B to Beaverdam Run:
At the confluence with Tributary D to Beaverdam Run | *251
Approximately 0.71 mile upstream of Claiborne Parkway | *316
Tributary D to Beaverdam Run:
At the confluence with Beaverdam Run | *251
Approximately 1,900 feet upstream of State Route 642 (Hay Road) | *262
Tributary No. 1 to Broad Run:
At confluence with Broad Run | *244
Approximately 400 feet upstream of the confluence with Broad Run | *244
Tributary No. 2 to Broad Run:
At the confluence with Broad Run | *251
Approximately 0.57 mile upstream of the confluence with Broad Run | *265
Tributary No. 3 to Broad Run:
At the confluence with Broad Run | *264
Approximately 0.57 mile upstream of the confluence with Broad Run | *266
Tributary No. 1 to Beaverdam Run:
At the confluence with Beaverdam Run | *228
Approximately 0.47 mile upstream of confluence of Beaverdam Run | *234
Tributary to Horsepen Run:
At confluence with Horsepen Run | *273
Approximately 0.71 mile upstream of the confluence with Horsepen Run | *321
Tributary to North Fork Broad Run:
At confluence with North Fork Broad Run | *297
Approximately 1,770 feet upstream of confluence with North Fork Broad Run | *304
Tributary to Stallion Branch:
At the confluence with Stallion Branch | *260
Approximately 0.44 mile upstream of the confluence with Stallion Branch | *260
Maps available for inspection at the Loudoun County Building, Building & Development Department, 1 Harrison Street, S.E., Leesburg, Virginia.

(Catalog of Federal Domestic Assistance No. 83.100, “Flood Insurance.”)
Dated: January 30, 2001.
Margaret E. Lawless,
Acting Executive Associate Director for Mitigation.

[FR Doc. 01-3922 Filed 2-15-01; 8:45 am]

BILLING CODE 6718-04-P